DEPARTMENT OF TRANSPORTATION

Federal Aviation Administration

14 CFR Part 71

[Docket No. FAA-2019-1061; Airspace Docket No. 20-AGL-06]

RIN 2120-AA66

Proposed Revocation and Amendment of Class E Airspace; Williston, ND

AGENCY: Federal Aviation Administration (FAA), DOT.

ACTION: Notice of proposed rulemaking (NPRM).

SUMMARY: This action proposes to revoke the Class E airspace at Sloulin Field International Airport, Williston, ND, due to the airport's closure. This action also proposes to amend Class E airspace at Williston Basin International Airport, Williston, ND. The action proposes to add an area designated as a surface area. This action also proposes to amend the Class E airspace extending upward from 700 feet above the surface by adding two extensions, one to the southeast and one to the north of the airport. Additionally, this action proposes to add a Class E airspace area extending upward from 1,200 feet above the surface. Lastly, this action proposes an administrative correction to the airspace legal description's text header by updating the airport's geographic coordinate to match the FAA's aeronautical database. These changes are necessary to accommodate airspace redesign for the safety and management of Instrument Flight Rules (IFR) operations at the airport.

DATES: Comments must be received on or before April 17, 2020.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2019-1061; Airspace Docket No. 20-AGL-06, at the beginning of your comments. You may also submit comments through the internet at https://www.regulations.com.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would revoke the Class E airspace at Sloulin Field International Airport and amend the Class E airspace at Williston Basin International Airport, Williston, North Dakota to support instrument flight rules (IFR) operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2019-1061; Airspace Docket No. 20-AGL-06.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the “ADDRESSES” section for the address and phone number) between 9:00 a.m. and 5:00 p.m., Monday through Friday, except federal holidays. An informal docket may also be examined during normal business hours at the Northwest Mountain Regional Office of the Federal Aviation Administration, Air Traffic Organization, Western Service Center, Operations Support Group, 2200 S. 216th Street, Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) Part 71 by revoking the Class E airspace at Sloulin Field International Airport at Williston ND, due to the airport's closure.

This action also proposes to amend Class E airspace at Williston Basin International Airport, Williston, ND. The proposal would add a Class E airspace area, designated at a surface area. This area is designed to provide controlled airspace for terminal operations where a control tower is not in operation. This proposed area is described as follows: That airspace extending upward from the surface within a 4.2-mile radius of the airport, and within 1.3 miles each side of the 135° bearing from the airport, extending from the 4.2-mile radius to 4.7 miles southeast of the airport, and within 1.3 miles each side of the 339° bearing from the airport, extending from the 4.2-mile radius to 4.7 miles north of the Williston Basin International Airport.

Additionally, this action proposes to amend the Class E airspace area extending upward from 700 feet above the surface by adding two extensions to the current 6.7-mile radius of the airport. One to the southeast and one to the north of the airport. These areas are designed to accommodate arriving IFR operations when aircraft descend below 1,500 feet above the surface. The proposed area is described as follows: That airspace extending upward from 700 feet above the surface within a 6.7-mile radius of the airport, and within 3.6 miles each side of the 132° bearing from the airport, extending from the 6.7-mile radius to 11.4 miles southeast of the airport, and within 3.6 miles each side of the 340° bearing from the airport, extending from the 6.7-mile radius to 11 miles north of the Williston Basin International Airport.

Further, this action proposes to add a Class E airspace area extending upward from 1,200 feet above the surface. This area is designed to accommodate IFR aircraft while transitioning to/from the en route environment. The proposed area is described as follows: That airspace extending upward from 1,200 feet above the surface within a 41-mile radius of the Williston Basin International Airport.

Lastly, this action proposed an administrative correction to the airspace legal description's text header by updating the airport's geographic coordinate to match the FAA's aeronautical database. The coordinates should read: Lat. 48°15′39″ N, long. 103°45′04″ W. Class E2 and Class E5 airspace designations are published in paragraphs 6002 and 6005, respectively, of FAA Order 7400.11D, dated August 8, 2019, and effective September 15, 2019, which is incorporated by reference in 14 CFR 71.1. The Class E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as Surface Areas.

* * * * *

AGL ND E2 Williston, ND [Revoked]

Williston, Sloulin Field International Airport, ND

(Lat. 48°10′41″ N, long. 103°38′32″ W)

AGL ND E2 Williston, ND [New]

Williston Basin International Airport, ND

(Lat. 48°15′39″ N, long. 103°45′04″ W)

That airspace extending upward from the surface within a 4.2-mile radius of the airport, and within 1.3 miles each side of the 135° bearing from the airport, extending from the 4.2-mile radius to 4.7 miles southeast of the airport, and within 1.3 miles each side of the 339° bearing from the airport, extending from the 4.2-mile radius to 4.7 miles north of the Williston Basin International Airport.

Paragraph 6005 Class E Airspace Areas Extending Upward From 700 Feet or More Above the Surface of the Earth.

* * * * *

AGL ND E5 Williston, ND [Revoked]

Sloulin Field International Airport, ND

(Lat. 48°10′41″ N, long. 103°38′32″ W)

AGL ND E5 Williston, ND [Amended]

Williston Basin International Airport, ND

(Lat. 48°15′39″ N, long. 103°45′04″ W)

That airspace extending upward from 700 feet above the surface within a 6.7-mile radius of the airport, and within 3.6 miles each side of the 132° bearing from the airport, extending from the 6.7-mile radius to 11.4 miles southeast of the airport, and within 3.6 miles each side of the 340° bearing from the airport, extending from the 6.7-mile radius to 11 miles north of the airport; and that airspace extending upward from 1,200 feet above the surface within a 41-mile radius of the Williston Basin International Airport.

Issued in Seattle, Washington, on February 26, 2020.
Shawn M. Kozica,
Group Manager, Operations Support Group, Western Service Center.

[FR Doc. 2020-04257 Filed 3-2-20; 8:45 am]

BILLING CODE 4910-13-P